DEPARTMENT OF AGRICULTURE

Forest Service

Beaverhead-Deerlodge National Forest, Pintler Ranger District; Montana; Flint Foothills Vegetation Management Project

AGENCY: Forest Service, USDA.

ACTION: Notice of intent to prepare an environmental impact statement.

SUMMARY: The Flint Foothills Vegetation Management Project proposes to use clearcut salvage logging, commercial and pre-commercial thinning, and prescribed fire on 5,709 acres of National Forest System Lands affected by a larger, widespread mountain pine beetle infestation within the 44,522-acre project area.

DATES: Comments concerning the scope of the analysis must be received by July 5, 2011. The draft environmental impact statement is expected in April 2012 and the final environmental impact statement is expected in September 2012.

ADDRESSES: Send written comments to Beaverhead-Deerlodge National Forest, Pintler Ranger District, 88 Business Loop, Philipsburg, MT 59858. Comments may also be sent via e-mail to comments-northern-beaverhead-deerlodge-pintler@fs.fed.us, or via facsimile to 406-859-3689.

FOR FURTHER INFORMATION CONTACT: Julie Knutson, Interdisciplinary Team Leader at jcknutson@fs.fed.us, 559-920-6646; Karen Gallogly, Project Coordinator at kgallogly@fs.fed.us, 406-683-3853; or Charlene Bucha Gentry, District Ranger at cbuchagentry@fs.fed.us, 406-859-3211.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the proposal is to (1) salvage harvest dead and dying lodgepole pine stands to create managed conditions and harvest wood products from forested stands infested or at risk for infestation with bark beetles before the value of the wood deteriorate; (2) reduce forest densities in low elevation ponderosa pine and Douglas-fir stands and some lodgepole pine communities to improve resilient forest conditions; (3) use prescribed fire as a disturbance agent in dry forest communities that include the mix of Douglas-fir and ponderosa pine to maintain forest diversity and structure that are resilient to crown fire; (4) create early seral conditions in mid elevation lodgepole pine stands where insect infested stands are dead or dying; (5) reduce forest densities in young previously harvested stands to maintain long term sustained yield; and (6) treat old growth to improve the likelihood of retaining old growth in the landscape because of the potential mortality from the bark beetle infestation.

Proposed Action

The Pintler Ranger District proposes to clearcut salvage dead and dying lodgepole pine and harvest post and poles on 863 acres, commercial thin ponderosa pine and Douglas-fir on 1,007 acres, use a combination of clearcut salvage and commercial thin on 703 acres of mixed Douglas-fir and lodgepole pine stands, precommercial thin 1,146 acres of Douglas-fir and lodgepole pine stands, and prescribed burn 1,990 acres of mixed conifer stands. A total of 5,709 acres would be treated within 93 units ranging in size from two to 196 acres. Harvest and treatment methods would include ground-based and cable logging systems, mechanical slash piling, hand-thinning and piling, and aerial and hand-ignition of prescribed fire. Approximately 10 miles of temporary roads and 72 miles of existing Forest System roads would be used to implement treatment activities. All temporary roads constructed for project implementation would be obliterated and rehabilitated upon project completion. The project is proposed for implementation beginning in 2013 and would take several years to complete.

Responsible Official

Forest Supervisor for the Beaverhead-Deerlodge National Forest, Dave Myers, 420 Barrett St., Dillon, MT 59725-3572.

Nature of Decision To Be Made

The Responsible Official for this project and will decide whether to implement the proposed action or an alternative developed in response to specific resource issues and public comments.

Preliminary Issues

Preliminary issues identified by the interdisciplinary team and the public during a previous scoping period in July 2010, include potential impacts to populations of westslope cutthroat trout from treatment activities; potential to increase runoff and erosion by removing vegetation and ground cover; potential to increase noxious weeds populations; maintenance of old growth stand characteristics where encountered; mitigation of management actions around active nests of Threatened, Endangered, and Sensitive (TES) bird species including great gray owls and Northern Goshawk; maintenance of secure habitat to contribute to wildlife linkages for large animal movements between the Flint Creek Range and Henderson Mountain/John Long Mountains; timing of burning and harvest activities with livestock grazing management, dispersed recreation, hunters and outfitters; and coordination with Comprehensive Environmental Response, Compensation, and Liability Act (CERCLA) projects within the project area.

The Forest Service recognizes this list if issues may not be complete and issues will be further defined and refined as scoping continues. A comprehensive list of key issues will be determined before the range of alternatives is developed and the environmental analysis is started.

Scoping Process

This notice of intent initiates the scoping process, which guides the development of the environmental impact statement. The District Ranger will mail a scoping letter and map to interested publics, Tribes, and Federal, state and local governments. The Forest will conduct a public meeting in Drummond, MT, in July 2010, to discuss the Proposed Action with interested parties and those who may be affected by the proposal. Notice of the meeting will be posted on the Forest's Web site and news releases will appear in the Philipsburg Mail and other local newspapers.

This project was scoped in July 2010, when the Forest solicited public comment on a proposal to use clearcut salvage logging, commercial and pre-commercial thinning, and prescribed fire to harvest wood products and restore resiliency on about 5,600 acres of National Forest System Lands. After reviewing the comments on the initial proposal, combined with internal assessment of the project, portions of the project have been redesigned and the Forest Service is again seeking public input. Important distinctions between the proposal scoped in July 2010 and this proposal are a change in the objectives to use prescribed fire, identification of old growth within treatment units, a decrease in the number of treatment units, and a slight increase in the number of acres treated.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however, anonymous comments will not provide the Agency with the ability to provide the respondent with subsequent environmental documents.

Dated: May 26, 2011.
David R. Myers,
Forest Supervisor.

[FR Doc. 2011-13634 Filed 6-1-11; 8:45 am]

BILLING CODE 3410-11-P